Title 3—

The President

Proclamation 10009 of April 13, 2020

Pan American Day and Pan American Week, 2020

By the President of the United States of America

A Proclamation

This year marks 130 years since the spirit of cooperation, hope, and progress brought together the nations of the Americas at the First International Conference of American States. This historic meeting chartered the course for the establishment of the Organization of American States in 1948, an institution that has ever since worked toward peace and prosperity throughout the Americas, encouraging the nonviolent resolution of conflict and promoting mutual social and economic growth. As we celebrate our remarkable progress this Pan American Day and Pan American Week, let us also reaffirm our resolve to uphold and bolster liberty, democracy, and freedom in our Hemisphere.

As part of our commitment to advancing dignity and freedom, my Administration will always work to combat human trafficking. This work requires enhanced border security and a well-functioning immigration system. Through our cooperation with the Governments of Mexico and our Central American partners, we have instituted reforms that help ensure the security and well-being of our peoples. By signing the United States-Mexico Joint Declaration last June, the Government of Mexico affirmed its commitment to reducing the number of illegal immigrants who arrive at our southern border. We have also signed agreements with the Governments of El Salvador, Guatemala, and Honduras to enhance our countries' cooperative efforts. These partnerships have helped expand humanitarian protections for asylum seekers, combat transnational criminal organizations, strengthen border security, and reduce human slavery and smuggling.

My Administration also remains committed to implementing trade deals that will bolster the economies of the United States and our allies in the Americas. I am proud to have delivered on my promise to end the outdated and unbalanced North American Free Trade Agreement (NAFTA) by signing the United States-Mexico-Canada Agreement (USMCA) into law, modernizing and rebalancing trade in a manner that supports robust economic growth throughout North America. Additionally, through the América Crece initiative, we are deepening private-sector investment in energy and infrastructure, enhancing economic opportunity and growth across the Americas, and continuing an historic period of cooperation.

We also recognize that citizen-responsive democratic governance, characterized by free and fair elections, is essential to peace and security, and we therefore remain committed to advocating for freedom and democracy for those living under authoritarian regimes in Venezuela, Cuba, and Nicaragua. As part of the growing global consensus of nearly 60 countries that have recognized the legitimacy of interim President of Venezuela Juan Guaido, we are doing everything we can to support the Venezuelan people, address the humanitarian crisis in Venezuela and the region, peacefully restore democracy, and return Venezuela to its status as a stable and prosperous nation. In February, I was pleased to host interim President Guaido as an honored guest at my State of the Union address. During his visit, I reaffirmed the dedication of the United States to bringing the full range of diplomatic and economic tools to bear on the Maduro regime until its illegitimate rule comes to an end. The United States also remains committed to helping the people of Cuba and Nicaragua create stable and free countries. Together with our regional partners, we will ensure the realization of the democratic dreams of those oppressed by tyrannical regimes.

We are grateful for the blessings of freedom enjoyed in the United States and in so many other parts of the Western Hemisphere. We also remain steadfast in our determination to secure a freer and more democratic Western Hemisphere for all. On this day and during this week, let us celebrate the liberty we have fostered together with our regional partners and pledge our continuing support for a future where it is enjoyed even more widely throughout our Hemisphere.

NOW, THEREFORE, I, DONALD J. TRUMP, President of the United States of America, by virtue of the authority vested in me by the Constitution and the laws of the United States, do hereby proclaim April 14, 2020, as Pan American Day and April 12 through April 18, 2020, as Pan American Week. I urge the Governors of the 50 States, the Governor of the Commonwealth of Puerto Rico, and the officials of the other areas under the flag of the United States of America to honor these observances with appropriate ceremonies and activities.

IN WITNESS WHEREOF, I have hereunto set my hand this thirteenth day of April, in the year of our Lord two thousand twenty, and of the Independence of the United States of America the two hundred and forty-fourth.

[FR Doc. 2020-08246

Filed 4-15-20; 11:15 am]

Billing code 3295-F0-P